DEPARTMENT OF THE INTERIOR

Geological Survey

[Docket No. USGS-2025-0004; OMB Control Number 1028-NEW; GX25DJ70GY100000;]

Agency Information Collection Activities: USGS Generic Clearance for Water Availability Information Collections

AGENCY: U.S. Geological Survey, Interior.

ACTION: Notice of information collection; request for comment.

SUMMARY: In accordance with the Paperwork Reduction Act (PRA) of 1995, the U.S. Geological Survey (USGS, we) is proposing a new information collection.

DATES: Interested persons are invited to submit comments. To be considered, your comments must be received on or before August 14, 2025.

ADDRESSES: You may submit comments by one of the following methods:

Internet: https://www.regulations.gov. Search for and submit comments on Docket No. USGS-2025-0004.

U.S. Mail: USGS, Information Collections Clearance Officer, 12201 Sunrise Valley Drive, MS 159, Reston, VA 20192.

FOR FURTHER INFORMATION CONTACT: Katrina Alger by email at kalger@usgs.gov, or by telephone at 608-828-9901. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 7, 2024 (89 FR 88302). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: Water information is fundamental to national and local economic well-being, protection of life and property, and the effective management of the Nation's water resources. The USGS works with partners to monitor, assess, conduct targeted research, and deliver information on a wide range of water resources and conditions, as mandated by the SECURE Water Act of 2009 (Public Law 111-11, title IX, subtitle F of the Omnibus Public Land Management Act of 2009). This legislation emphasizes the need for updated, reliable data to support water resource planning and management, and specifically directs the USGS to improve assessments and forecasts of water availability, defined as “the balance between water supply and demand, as determined using a set of core components of water quality, quantity, and use.”

This generic information collection clearance will centralize administration of USGS public data collections in the topic area of water availability—encompassing both the supply and demand aspects, as well as water quality, access, and usage patterns—and allow for more systematic and timely collections that will benefit new and ongoing research programs within the Water Resources Mission Area.

The USGS plans a variety of qualitative and quantitative data collection methods under this clearance, which may include surveys, interviews, and focus groups. The exact nature of the instruments and samples is dependent on each individual project and details will be provided for each individual information collection request submitted, following OMB requirements. The bureau commits to ensuring that all collections are voluntary, minimally burdensome, noncontroversial, and only conducted with informed participant consent. All data collected will protect respondent privacy to the extent permitted by law, with a particular emphasis on protecting PII. Any information collected will not be used to influence policy decisions directly and will only be disseminated in aggregated or anonymized formats, adhering to strict guidelines for scientific integrity and privacy. Respondents will be informed of all planned data uses. Measures will be taken to minimize public burden to the greatest extent possible, including review and pre-testing of instruments to ensure clarity and relevance, and using electronic collection means whenever possible.

The research anticipated under this request will be used to advance both the scientific understanding of our socio-hydrological system and bureau priorities to integrate social science, decision science, and human-centered design more fully into Water Enterprise projects in a strategic, rigorous, and consistent way. Collection of this information supports the USGS by improving both national and regional assessments of water quantity, quality, and use; advancing scientific understanding related to the human drivers of water availability; informing product development to maximize the utility and usability of USGS water data; and framing future and ongoing research efforts within the bureau. Outputs are likely to reduce costs and improve outcomes for both the bureau and the public by ensuring our science is conducted efficiently, effectively, and is serving its intended purpose.

Title of Collection: USGS Generic Clearance for Water Availability Information Collections.

OMB Control Number: 1028-NEW.

Form Number: None.

Type of Review: New.

Respondents/Affected Public: State, local and Tribal government; individuals or households; universities; businesses or other for-profit organizations; not-for-profit institutions; Federal Government.

Total Estimated Number of Annual Respondents: 4,650.

Estimated Completion Time per Response: Varies from 15 minutes to 2 hours, depending on the activity.

Total Estimated Number of Annual Burden Hours: 3,500 (see chart below).

Respondent's Obligation: Voluntary.

Frequency of Collection: As needed.

Total Estimated Annual Nonhour Burden Cost: $0.

Type of collection | Number of State, local, or tribal respondents | Number of public respondents | Average burden per response | Total hours for instrument
Survey | 1,500 | 1,500 | 0.25 (15 minutes) | 750
Individual Interview, Long—Structured or Semi-structured | 100 | 100 | 1.5 (90 minutes) | 300
Individual Interview, Short—Structured or Semi-structured | 225 | 225 | 1 (60 minutes) | 450
Focus Groups/Small Group Discussion | 500 | 500 | 2 (120 minutes) | 2,000
Total Responses by Participant Group | 2,325 | 2,325 | Total Burden Hours | 3,500

An agency may not conduct or sponsor, nor is a person is required to respond to a collection of information unless it displays a currently valid OMB control number.

The authority for this action is the PRA of 1995 (44 U.S.C. 3501 et seq.).

Emily Read,
Acting Director, Integrated Information Dissemination Division, Water Resources Mission Area.

[FR Doc. 2025-13203 Filed 7-14-25; 8:45 am]

BILLING CODE 4334-63-P